DEPARTMENT OF HOUSING AND URBAN DEVELOPMENT

[Docket No. FR-5200-FA-26]

Announcement of Funding Awards for the Section 202 Supportive Housing for the Elderly Program Fiscal Year 2008

AGENCY: Office of the Assistant Secretary for Housing—Federal Housing Commissioner, HUD.

ACTION: Notice of funding awards.

SUMMARY: In accordance with section 102(a)(4)(C) of the Department of Housing and Urban Development Reform Act of 1989, this announcement notifies the public of funding decisions made by the Department in a competition for funding under the Super Notice of Funding Availability (SuperNOFA) for the Section 202 Supportive Housing for the Elderly Program. This announcement contains the names of the awardees and the amounts of the awards made available by HUD.

FOR FURTHER INFORMATION CONTACT: Mr. Willie Spearmon, Director, Office of Housing Assistance and Grant Administration, 451 7th Street, SW., Washington, DC 20410; telephone (202) 708-3000 (this is not a toll-free number). Hearing- and speech-impaired persons may access this number via TTY by calling the Federal Relay Service toll-free at 1-800-877-8339. For general information on this and other HUD programs, visit the HUD Web site at http://www.hud.gov.

SUPPLEMENTARY INFORMATION: The Section 202 Supportive Housing for the Elderly Program is authorized by Section 202 of the Housing Act of 1959 (12 U.S.C. 1701q), as amended by section 801 of the Cranston-Gonzalez National Affordable Housing Act (Pub. L. 101-625; approved November 28, 1990); the Housing and Community Development Act of 1992 (Pub. L. 102-550; approved October 28, 1992); the Recessions Act (Pub. L. 104-19; enacted on July 27, 1995); the American Homeownership and Economic Opportunity Act of 2000 (Pub. L. 106-569; approved December 27, 2000); and the Consolidated Appropriations Act, 2008 (Pub. L. 110-161; approved December 26, 2007).

The competition was announced in the SuperNOFA published in the Federal Register on May 12, 2008, 73 FR 27032. Applications were rated and selected for funding on the basis of selection criteria contained in that Notice.

(The Catalog of Federal Domestic Assistance number for this program is 14.157.)

The Section 202 program is the Department's primary program for providing affordable housing for the elderly that allows them to live independently with supportive services. Under this program, HUD provides funds to private non-profit organizations to develop supportive housing for the elderly. Funds are also provided to subsidize the expenses to operate the housing projects.

A total of $525,876,000 was awarded to 101 projects for 3,774 units nationwide. In accordance with section 102(a)(4)(C) of the Department of Housing and Urban Development Reform Act of 1989 (103 Stat. 1987. 42 U.S.C. 3545), the Department is publishing the grantees and amounts of the awards in Appendix A of this document.

Dated: May 1, 2009.
Brian Montgomery,
Assistant Secretary for Housing—Federal Housing Commissioner.

FY 2008 Selections Section 202 Supportive Housing for the Elderly
ALABAMA
Daphne, AL, AHEPA National Housing Corp., Capital Advance: $5,002,100, Three-year rental subsidy: $365,700, Number of units: 39 | Dothan, AL, B'nai Brith Housing, Inc., Co-Sponsor: Wiregrass Foundation, Capital Advance: $3,824,700, Three-year rental subsidy: $365,700, Number of units: 39.
ALASKA
Haines, AK, Haines Assisted Living, Inc., Capital Advance: $1,002,900, Three-year rental subsidy: $102,000, Number of units: 5 | Togiak, AK, Marrulut Enitt Assisted Living, Capital Advance: $1,002,900, Three-year rental subsidy: $102,000, Number of units: 5.
ARIZONA
Phoenix, AZ, National Farm Workers Service Center, Inc., Capital Advance: $5,650,100, Three-year rental subsidy: $447,900, Number of units: 46 | Phoenix, AZ, Friendship Retirement Corporation, Capital Advance: $4,803,200, Three-year rental subsidy: $447,900, Number of units: 46.
ARKANSAS
Bono, AR, White River Reg Hsg Dev Corp, Capital Advance: $1,168,400, Three-year rental subsidy: $104,700, Number of units: 12 | Huntsville, AR, Northwest Regional Housing Dev Corp, Capital Advance: $1,947,400, Three-year rental subsidy: $174,300, Number of units: 20.
CALIFORNIA
Bakersfield, CA, National Farm Workers Service Center, Inc., Capital Advance: $7,460,100, Three-year rental subsidy: $809,400, Number of units: 49 | Clovis, CA, Southern California Presbyterian Homes, Capital Advance: $8,425,400, Three-year rental subsidy: $1,056,600, Number of units: 60.
Fremont, CA, Eden Housing, Inc., Capital Advance: $13,371,700, Three-year rental subsidy: $1,557,900, Number of units: 88 | Rialto, CA, TELACU, Capital Advance: $11,401,200, Three-year rental subsidy: $1,247,700, Number of units: 75.
Santa Rosa, CA, Petaluma Ecumenical Properties, Capital Advance: $5,792,700, Three-year rental subsidy: $662,700, Number of units: 38 |
CONNECTICUT
East Lyme, CT, AHEPA National Housing Corporation, Capital Advance: $7,882,100, Three-year rental subsidy: $742,800, Number of units: 52 | Franklin, CT, The ACCESS Agency, Inc., Capital Advance: $4,092,600, Three-year rental subsidy: $385,800, Number of units: 27.
Newington, CT, New Samaritan Corporation, Capital Advance: $4,636,000, Three-year rental subsidy: $457,200
FLORIDA
Palmetto, FL, Diocese of Venice, Capital Advance: $8,800,900, Three-year rental subsidy: $597,600, Number of units: 68 | Pensacola, FL, Presbyterian Retirement Communities, Capital Advance: $5,407,300, Three-year rental subsidy: $496,800, Number of units: 53.
Tampa, FL, Diocese of St. Petersburg, Co-Sponsor: Catholic Charities, Capital Advance: $8,761,300, Three-year rental subsidy: $597,600, Number of units: 68
GEORGIA
Atlanta, GA, South Atlantic Conference, Capital Advance: $5,211,100, Three-year rental subsidy: $469,800, Number of units: 50 | Harlem, GA, Georgia Rehabilitation Institute, Inc., Capital Advance: $1,607,300, Three-year rental subsidy: $144,000, Number of Units: 16.
Lithonia, GA, Retirement Housing Foundation, Capital Advance: $5,626,200, Three-year rental subsidy: $508,200, Number of units: 54 |
IDAHO
Coeur d'Alene, ID, St. Vincent de Paul Salvage Bureau, Capital Advance: $3,471,500, Three-year rental subsidy: $369,000, Number of units: 37 |
ILLINOIS
Chicago, IL, The Community Builders, Capital Advance: $9,127,500, Three-year rental subsidy: $689,100, Number of units: 60 | Rockford, IL, First Assembly of God Church, Capital Advance: $2,798,400, Three-year rental subsidy: $233,700, Number of units: 20.
Chicago, IL, Elderly Hsg Dev & Operations Corp., Capital Advance: $4,698,900, Three-year rental subsidy: $362,100, Number of units: 31 | Chicago, IL, New Pisgah Missionary Baptist Church, Capital Advance: $9,127,500, Three-year rental subsidy: $689,100, Number of units: 60.
INDIANA
Churubusco, IN, Blue River, Inc., Capital Advance: $2,267,800, Three-year rental subsidy: $238,500, Number of units: 22 | LaPaz, IN, Garden Court, Inc., Capital Advance: $1,513,400, Three-year rental subsidy: $151,800, Number of units: 14.
Gary, IN, Volunteers of America National Services, Capital Advance: $5,464,200, Three-year rental subsidy: $411,600, Number of units: 39 |
KANSAS
Wichita, KS, Mennonite Housing Rehabilitation Services, Capital Advance: $5,118,700, Three-year rental subsidy: $475,200, Number of units: 44 |
KENTUCKY
Bowling Green, KY, Live the Dream Development, Inc., Capital Advance: $3,811,300, Three-year rental subsidy: $366,300, Number of units: 36 | Corbin, KY, KCEOC Community Action Partnership, Capital Advance: $1,772,300, Three-year rental subsidy: $162,900, Number of units: 16.
Lexington, KY, Fayette County Local Development Corporation, Capital Advance: $2,326,100, Three-year rental subsidy: $213,900, Number of units: 21 | Louisville, KY, Douglass Blvd. Christian Church, Capital Advance: $1,218,400, Three-year rental subsidy: $111,900, Number of units: 11.
LOUISIANA
Lake Charles, LA, Calcasieu Council on Aging, Co-Sponsor: Greater Southwest Louisiana CHDO, Inc., Capital Advance: $3,786,400, Three-year rental subsidy: $372,600, Number of units: 42 | New Iberia, LA, Diocese of Lafayette, Capital Advance: $1,092,700, Three-year rental subsidy: $90,900, Number of units: 11.
MARYLAND
Baltimore, MD, Associated Catholic Charities, Capital Advance: $6,065,500, Three-year rental subsidy: $601,200, Number of units: 51 | Randallstown, MD, CSI Support & Development Services, Capital Advance: $6,091,200, Three-year rental subsidy: $589,500, Number of units: 51.
Silver Spring, MD, Victory Housing, Inc., Capital Advance: $6,484,700, Three-year rental subsidy: $576,300, Number of units: 49 |
MASSACHUSETTS
Berlin, MA, Montachusett Home Care Corporation, Capital Advance: $5,627,000, Three-year rental subsidy: $591,300, Number of units: 40 | W. Roxbury, MA, Community Builders, Capital Advance: $6,063,200, Three-year rental subsidy: $606,600, Number of units: 40.
Roxbury, MA, Nuestra Communidad, Co-Sponsor: New Communities Services, Inc., Capital Advance: $5,305,300, Three-year rental subsidy: $530,700, Number of units: 35 | W. Roxbury, MA, Community Builders, Capital Advance: $6,063,200, Three-year rental subsidy: $606,600, Number of units: 40.
W. Roxbury, MA, Community Builders, Capital Advance: $6,063,200, Three-year rental subsidy: $606,600, Number of units: 40 |
MICHIGAN
Albion, MI, Volunteers of America, Capital Advance: $3,475,600, Three-year rental subsidy: $373,800, Number of units: 38 | Kalamazoo, MI, Presbyterian Villages of Michigan, Capital Advance: $3,475,600, Three-year rental subsidy: $373,800, Number of units: 38.
Clinton Township, MI, Volunteers of America, Capital Advance: $8,415,600, Three-year rental subsidy: $789,600, Number of units: 66 |
MINNESOTA
Maplewood, MN, Common Bond Communities, Capital Advance: $5,081,800, Three-year rental subsidy: $471,600, Number of units: 40 | St. Paul, MN, Episcopal Corporation for the Elderly, Capital Advance: $6,378,400, Three-year rental subsidy: $577,800, Number of units: 50.
MISSISSIPPI
Wiggins, MS, VOA Southeast, Inc., Capital Advance: $1,925,300, Three-year rental subsidy: $183,600, Number of units: 20 |
MISSOURI
Dardenne Prairie, MO, Cardinal Ritter Senior Services, Capital Advance: $4,896,000, Three-year rental subsidy: $442,500, Number of units: 38 |
MONTANA
Kalispell, MT, Accessible Space, Inc., Capital Advance: $3,519,000, Three-year rental subsidy: $219,000, Number of units: 23 |
NEBRASKA
Papillion, NE, Immanuel Health Systems, Capital Advance: $2,240,000, Three-year rental subsidy: $199,200, Number of units: 20 |
NEVADA
Las Vegas, NV, Nevada H.A.N.D., Inc., Capital Advance: $6,996,000, Three-year rental subsidy: $570,900, Number of units: 50 |
NEW HAMPSHIRE
Manchester, NH, SNHS Management Corporation, Capital Advance: $5,153,700, Three-year rental subsidy: $392,100, Number of units: 34 | Newbury, NH, CAP, Belknap-Merrimack Counties, Inc., Capital Advance: $2,576,800, Three-year rental subsidy: $196,200, Number of units: 17.
NEW JERSEY
Middle Township, NJ, The Diocesan Housing Ser Corp, Capital Advance: $11,249,600, Three-year rental subsidy: $1,143,600, Number of units: 74 |
NEW YORK
Amherst, NY, Menorah Campus, Inc., Capital Advance: $6,471,300, Three-year rental subsidy: $604,200, Number of units: 50 | Clarendon, NY, Urban League of Rochester Economic Dev Corp., Capital Advance: $1,237,000, Three-year rental subsidy: $120,900, Number of units: 10.
Perry, NY, Wyoming County Community Action, Inc., Capital Advance: $2,459,000, Three-year rental subsidy: $229,800, Number of units: 19 | Queens, NY, Allen A.M.E. Neighborhood Preservation and Dev Corp., Capital Advance: $10,037,000, Three-year rental subsidy: $1,527,300, Number of units: 66.
Staten Island, NY, Sisters of Charity of St. Vincent de Paul, Capital Advance: $12,159,100, Three-year rental subsidy: $1,856,400, Number of units: 80 | West Seneca, NY, People, Inc., Capital Advance: $6,110,900, Three-year rental subsidy: $555,900, Number of units: 47.
NORTH CAROLINA
Durham, NC, Volunteers of America National Services, Capital Advance: $6,858,800, Three-year rental subsidy: $478,200, Number of units: 48 | Volunteers of America National Services, Capital Advance: $6,858,800, Three-year rental subsidy: $478,200, Number of units: 48.
Lexington, NC, North Carolina Housing Foundation, Inc., Capital Advance: $2,064,500, Three-year rental subsidy: $152,700, Number of units: . | Robbins, NC, St. Joseph's of the Pines, Capital Advance: $2,918,600, Three-year rental subsidy: $203,700, Number of units: 21.
OHIO
Albany, OH, Housing Service Alliance, Capital Advance: $1,303,800, Three-year rental subsidy: $129,300, Number of units: 12 | Marion, OH, Lutheran Social Services of Central Ohio, Capital Advance: $1,303,800, Three-year rental subsidy: $129,300, Number of units: 12.
Cincinnati, OH, Volunteers of America National Services, Co-Sponsor: Volunteers of America Ohio River Valley, Capital Advance: $4,700,800, Three-year rental subsidy: $447,300, Number of units: 42 | New Holland, OH, Community Action Comm. of Fayette Co., Capital Advance: $1,303,800, Three-year rental subsidy: $129,300, Number of units: 12.
Cleveland Heights, OH, Benjamin Rose Institute, Capital Advance: $4,323,500, Three-year rental subsidy: $437,700, Number of units: 36 | West Union, OH, Adams-Brown Counties Economic Opportunity, Capital Advance: $543,200, Three-year rental subsidy: $54,600, Number of units: 5.
Columbus, OH, Columbus Housing Partnership, Inc., Capital Advance: $3,815,700, Three-year rental subsidy: $377,100, Number of units: 35 |
OKLAHOMA
Atoka, OK, Choctaw Hope Development Corporation, Capital Advance: $1,151,700, Three-year rental subsidy: $115,500, Number of units: 13 | Muskogee, OK, Greater Muskogee Community Foundation, Capital Advance: $1,151,700, Three-year rental subsidy: $125,100, Number of units: 13.
OREGON
Wilsonville, OR, Northwest Housing Alternatives, Inc., Capital Advance: $5,535,700, Three-year rental subsidy: $463,800, Number of units: 45 |
PENNSYLVANIA
Aliquippa, PA, Community Action Partnership of Mercer Co., Capital Advance: $3,017,000, Three-year rental subsidy: $275,100, Number of units: 25 | Pleasant Gap, PA, Allegheny Luth Soc Mnstr, Capital Advance: $2,028,200, Three-year rental subsidy: $220,500, Number of units: 14.
Aliquippa, PA, Community Action Partnership of Mercer Co., Capital Advance: $4,827,200, Three-year rental subsidy: $439,800, Number of units: 40 | Erie, PA, Community Action Partnership of Mercer Co., Capital Advance: $3,258,300, Three-year rental subsidy: $297,000, Number of units: 27.
Erie, PA, HANDS, Inc., Capital Advance: $5,430,600, Three-year rental subsidy: $495,000, Number of units: 45 | Mt. Penn, PA, Cath Senior Hsg & Health Care Ser Inc., Capital Advance: $5,305,300, Three-year rental subsidy: $551,400, Number of units: 35.
RHODE ISLAND
Coventry, RI, Coventry Housing Associates Corp., Co-Sponsor: Coastal Housing Corporation, Capital Advance: $4,925,800, Three-year rental subsidy: $480,300, Number of units: 35 | Warwick, RI, The Saint Elizabeth Community, Capital Advance: $5,153,700, Three-year rental subsidy: $480,300, Number of units: .
SOUTH CAROLINA
Branchville, SC, Orangeburg County Council on Aging, Capital Advance: $1,315,000, Three-year rental subsidy: $93,900, Number of units: 10 | Greer, SC, Upstate Homeless Coalition of SC, Capital Advance: $4,533,500, Three-year rental subsidy: $337,500, Number of units: 36.
TENNESSEE
Greeneville, TN, Douglas Cherokee Economic Authority, Capital Advance: $507,200, Three-year rental subsidy: $47,100, Number of units: 5 | Loretto, TN, Loretto Lion's Club, Capital Advance: $1,136,700, Three-year rental subsidy: $108,300, Number of units: 12.
Memphis, TN, Charis Acres, Inc., Capital Advance: $2,858,500, Three-year rental subsidy: $278,100, Number of units: |
TEXAS
El Paso, TX, Ev Luth Gd Samar Soc., Capital Advance: $3,731,200, Three-year rental subsidy: $392,400, Number of units: 40 | Houston, TX, Avenue Community Development Corporation, Capital Advance: $4,742,100, Three-year rental subsidy: $485,100, Number of units: 49.
Plano, TX, Plano Community Home Sponsor, Inc., Capital Advance: $7,256,400, Three-year rental subsidy: $732,600, Number of units: 73 | San Antonio, TX, Merced Housing Texas, Capital Advance: $3,814,700, Three-year rental subsidy: $392,100, Number of units: 42.
Tyler, TX, The Salvation Army, A Georgia Corp., Capital Advance: $6,904,700, Three-year rental subsidy: $722,400, Number of units: 72 |
UTAH
Taylorsville, UT, Utah Non Profit Housing Corporation, Capital Advance: $7,859,700, Three-year rental subsidy: $566,700, Number of units: 61 |
VIRGINIA
Christiansburg, VA, Metropolitan Housing and CDC, Inc., Capital Advance: $5,028,300, Three-year rental subsidy: $506,100, Number of units: 48 |
WASHINGTON
Spokane Valley, WA, Spokane United Methodist Homes, Capital Advance: $4,255,400, Three-year rental subsidy: $410,100, Number of units: 38 | Tacoma, WA, American Baptist Homes of the West, Capital Advance: $7,661,400, Three-year rental subsidy: $658,800, Number of units: 55.
Tacoma, WA, Intercommunity Mercy Housing, Capital Advance: $8,216,400, Three-year rental subsidy: $707,700, Number of units: 59 |
WISCONSIN
Hudson, WI, Accessible Space, Inc., Capital Advance: $4,006,100, Three-year rental subsidy: $342,600, Number of units: 32

[FR Doc. E9-11098 Filed 5-12-09; 8:45 am]

BILLING CODE 4210-67-P